FEDERAL DEPOSIT INSURANCE CORPORATION

Sunshine Act Meetings

TIME AND DATE: 10:00 a.m. on Tuesday, December 15, 2020.

PLACE: The meeting is open to the public. Out of an abundance of caution related to current and potential coronavirus developments, the public's means to observe this Board meeting will be via a Webcast live on the internet and subsequently made available on-demand approximately one week after the event. Visit http://fdic.windrosemedia.com to view the live event. Visit http://fdic.windrosemedia.com/index.php?category=FDIC+Board+Meetings after the meeting. If you need any technical assistance, please visit our Video Help page at: https://www.fdic.gov/video.html.

Observers requiring auxiliary aids (e.g., sign language interpretation) for this meeting should call 703-562-2404 (Voice) or 703-649-4354 (Video Phone) to make necessary arrangements.

STATUS: Open.

MATTERS TO BE CONSIDERED: Pursuant to the provisions of the “Government in the Sunshine Act” (5 U.S.C. 552b), notice is hereby given that the Federal Deposit Insurance Corporation's Board of Directors will meet in open session to consider the following matters:

Summary Agenda

No substantive discussion of the following items is anticipated. These matters will be resolved with a single vote unless a member of the Board of Directors requests that an item be moved to the discussion agenda.

Disposition of Minutes of a Board of Directors' Meeting Previously Distributed.

Memorandum and resolution re: Final Rule on Revising the FDIC's Regulations Concerning Collection of Delinquent Civil Money Penalties.

Memorandum and resolution re: Notice of Proposed Rulemaking on Computer-Security Incident Notification.

Memorandum and resolution re: Notice of Proposed Rulemaking on Additional Exemptions to Suspicious Activity Report Requirements (12 CFR part 353).

Memorandum and resolution re: Final Rule on the Removal of Transferred OTS Regulations Regarding Application Processing Procedures for State Savings Associations and Conforming Amendments to Other Regulations (part 390, Subpart F).

Memorandum and resolution re: Final Rule on Rescission of Regulations Transferred from the Office of Thrift Supervision contained in 12 CFR part 390, subpart G, and Conforming Amendments to Existing FDIC Regulations.

Memorandum and resolution re: Final Rule on the Removal of Transferred OTS Regulations Regarding Subordinate Organizations (part 390, Subpart O).

Memorandum and resolution re: Final Rule on Removal of Transferred OTS Regulations Regarding Prompt Corrective Action Directives (part 390, Subpart Y) and Conforming Amendments to part 308, Subpart Q.

Report of actions taken pursuant to authority delegated by the Board of Directors.

Discussion Agenda

Memorandum and resolution re: Combined Final Rule on Brokered Deposits and Interest Rate Restrictions.

Memorandum and resolution re: Final Rule on Parent Companies of Industrial Banks and Industrial Loan Companies.

Memorandum and resolution re: Proposed 2021 FDIC Operating Budget.

CONTACT PERSON FOR MORE INFORMATION: Requests for further information concerning the meeting may be directed to Ms. Debra A. Decker, Deputy Executive Secretary of the Corporation, at 202-898-8748.

Dated at Washington, DC, on December 11, 2020.
Federal Deposit Insurance Corporation.
James P. Sheesley,
Assistant Executive Secretary.

[FR Doc. 2020-27700 Filed 12-11-20; 4:15 pm]

BILLING CODE 6714-01-P